DEPARTMENT OF AGRICULTURE

Forest Service

Information Collection; Volunteer Application and Agreement for Natural and Cultural Resources Agencies

AGENCY: Forest Service, USDA.

ACTION: Notice; request for comment.

SUMMARY: In accordance with the Paperwork Reduction Act of 1995, the Forest Service is seeking comments from all interested individuals and organizations on the extension with revision of a currently approved information collection entitled, Volunteer Application for Natural and Cultural Resources Agencies.

DATES: Comments must be received in writing on or before July 23, 2021 to be assured of consideration. Comments received after that date will be considered to the extent practicable.

ADDRESSES: Commenters are encouraged to submit comments by email, if possible. You may submit comments by any of the following methods:

• Email: merlene.mazyck@usda.gov.

• Mail: Merlene Mazyck, Volunteers & Service, Forest Service, USDA, 201 14th St. SW, Washington, DC 20250-1125.

• Hand Delivery/Courier: Forest Service, USDA, 1400 Independence Avenue SW, Washington, DC 20250.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may request an electronic copy of the draft supporting statement and/or any comments received be sent via return email. Requests should be emailed to merlene.mazyck@usda.gov.

FOR FURTHER INFORMATION CONTACT: Merlene Mazyck, Volunteers & Service, 202-205-0650. Individuals who use telecommunication devices for the deaf (TDD) may call the Federal Relay Service (FRS) at 1-800-877-8339, between 8 a.m. and 8 p.m., Eastern Standard time, Monday through Friday.

SUPPLEMENTARY INFORMATION:

Title: Information Collection; Volunteer Application and Agreement for Natural and Cultural Resources Agencies.

OMB Number: 0596-0080.

Expiration Date of Approval: October 31, 2021.

Type of Request: Extension with revisions of a currently approved information collection.

Abstract: Federal natural resource agencies are authorized to work with volunteers and volunteer organizations to plan, develop, maintain, and manage volunteer projects and service activities. In order to effectively engage volunteers across the country, participating agencies collect information, including personally identifiable information, from citizens and permanent residents who express interest and then agree to volunteer. Individuals under the age of 18 years must have written consent from a parent or guardian.

Authorizing Legislation: Relevant laws and regulations include Public Law 92-300, Volunteers in the National Forest Act of 1972; Public Law 116-9, John D. Dingell, Jr. Conservation, Management, and Recreation Act; 16 U.S.C. 558a-d, Volunteers in the National Forests Program; 16 U.S.C. 583 j-4, Forest Foundation Volunteers; 16 U.S.C. 1246, Administration and development of national trails system; 16 U.S.C. 1250, Volunteer trails assistance; and 31 U.S.C. 3325 which authorizes payment of vouchers.

Participating Agencies: Volunteer programs of the following natural resource management agencies are included:

• Department of Agriculture: U.S. Forest Service and Natural Resources Conservation Service;

• Department of Interior: National Park Service, U.S. Fish and Wildlife Service, Bureau of Land Management, Bureau of Reclamation, Bureau of Indian Affairs, Office of Surface Mining Reclamation and Enforcement, and U.S. Geological Survey;

• Department of Defense: U.S. Army Corps of Engineers; and

• Department of Commerce: National Oceanic and Atmospheric Administration—Office of National Marine Sanctuaries.

The Office of Management and Budget's volunteer 301 forms suite includes an application for the public to express interest in volunteering, an agreement form documenting conditions of engagement between the federal agency and the volunteer or volunteer group, and a group sign up form. The volunteer 301 suite of forms will expire October 31, 2021 and the Information Collection Request (ICR) is being transferred to the National Park Service (NPS). In accordance to the Paperwork Reduction Act, the information collection must be complete prior to the expiration date to ensure Agencies are able to utilize the forms if the NPS is unable to complete a new Volunteer forms suite.

Forms

OF-301 Volunteer Application: Individuals interested in volunteering may access the National Federal volunteer opportunities website (https://www.volunteer.gov/s/), individual agency websites, and/or contact agencies to request a Volunteer Application (OF-301). Applicants provide name; address; telephone number; age; email address; preferred work categories; qualifications, skills, and experiences; citizenship status; indication of past volunteer work; interest in supervising volunteers; objectives for volunteering (optional); indication of physical limitations; available dates; preferred location(s); lodging preferences; interest in other federal agencies; and how they heard about volunteer opportunities. Information collected using this form assists agency volunteer coordinators and other personnel in matching volunteers with opportunities appropriate for an applicant's skills and physical condition and availability. Signature of a parent or guardian is mandatory for applicants under 18 years of age.

OF-301a Volunteer Service Agreement: This form is used by participating natural resource agencies to document agreements for volunteer services between a Federal agency and individual or group volunteers, including international volunteers. Applicants provide name; address; telephone number; email address; date of birth; citizenship/residency status; ethnicity, race, and gender (optional); veteran status (optional); indication of disability (optional); and emergency contact information. Signature of a parent of guardian is mandatory for applicants under 18 years of age.

OF-301b Volunteer Group Sign-Up: This form is used by participating resource agencies to document awareness and understanding by individuals in groups about the volunteer activities between a Federal agency and a partner organization with group participants. The partner organization provides project title, group name, and group contact information. Applicants provide volunteer names, signature, telephone number, email address, and willingness to be photographed. Signature of a parent or guardian is mandatory for applications under 18 years of age.

Affected Public: Individuals, partner organizations including businesses and non-profit organizations, and/or state, local or tribal government.

Estimate of Burden per Response: 15 minutes per form.

Estimated Annual Number of Respondents: 500,000.

Estimated Annual Number of Responses per Respondent: 2.5.

Estimated Total Annual Burden on Respondents: 125,000 hours.

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request forwarded to the Office of Management and Budget for approval.

Robert Sanchez,
Acting Deputy Director, Recreation, Heritage & Volunteer Services.

[FR Doc. 2021-10910 Filed 5-21-21; 8:45 am]

BILLING CODE 3411-15-P